DEPARTMENT OF DEFENSE

Office of the Secretary

[Transmittal No. 15-40]

36(b)(1) Arms Sales Notification

AGENCY: Defense Security Cooperation Agency, Department of Defense.

ACTION: Notice.

SUMMARY: The Department of Defense is publishing the unclassified text of a section 36(b)(1) arms sales notification. This is published to fulfill the requirements of section 155 of Pub. L. 104-164 dated July 21, 1996.

FOR FURTHER INFORMATION CONTACT: Ms. Sarah A. Ragan or Ms. Heather N. Harwell, DSCA/LMO, (703) 604-1546 or (703) 607-5339.

The following is a copy of a letter to the Speaker of the House of Representatives, Transmittal 15-40 with attached Policy Justification and Sensitivity of Technology.

Dated: July 23, 2015.
Aaron Siegel,
Alternate OSD Federal Register Liaison Officer, Department of Defense.

BILLING CODE 5001-06-P

BILLING CODE 5001-06-C

Transmittal No. 15-40

Notice of Proposed Issuance of Letter of Offer Pursuant to Section 36(b)(1) of the Arms Export Control Act, as amended

(i) Prospective Purchaser: Lebanon

(ii) Total Estimated Value:

Major Defense Equipment * | $230 million
Other | $ 15 million
Total | $245 million

(iii) Description and Quantity or Quantities of Articles or Services under Consideration for Purchase: One thousand (1,000) BGM-71E-4B-RF Tube-launched, Optically-tracked, Wireless-guided (TOW) 2A Anti-Armor Radio-Frequency missiles, five hundred (500) BGM-71-H-1-RF TOW Bunker Buster Radio Frequency (RF) missiles, fifty (50) M220A2 TOW launchers, containers, spare and repair parts, support equipment, publications and technical documentation, personnel training and training equipment, U.S. Government and contractor logistics and technical support services, and other related elements of program and logistics support.

(iv) Military Department: Army (WER, Amendment #1 and WFD, Amendment #1)

(v) Prior Related Cases, if any:

FMS Case WER—$12.6M—June 2014

FMS Case WFD—$9M—October 2014

(vi) Sales Commission, Fee, etc., Paid, Offered, or Agreed to be Paid: None

(vii) Sensitivity of Technology Contained in the Defense Article or Defense Services proposed to be sold: See Attached Annex

(viii) Date Report Delivered to Congress: 21 JULY 2015

*As defined in Section 47(6) of the Arms Export Control Act.

POLICY JUSTIFICATION

Lebanon—TOW 2A Missiles

The Government of Lebanon has requested possible sale of One thousand (1000) BGM-71E-4B-RF Tube-launched, Optically-tracked, Wireless-guided (TOW) 2A Anti-Armor Radio-Frequency missiles, five hundred (500) BGM-71-H-1-RF TOW Bunker Buster Radio Frequency (RF) missiles, fifty (50) M220A2 TOW launchers, containers, spare and repair parts, support equipment, publications and technical documentation, personnel training and training equipment, U.S. Government and contractor logistics and technical support services, and other related elements of program and logistics support. The estimated cost is $245 million.

This proposed sale will enhance the foreign policy and national security of the United States by helping to improve the security of a friendly country that has been and continues to be an important force for political stability and economic progress in the Middle East.

The proposed sale of TOW missiles will improve Lebanon's capability to meet current and future threats and provide greater security for its critical infrastructure. Lebanon will use the enhanced capability to strengthen its homeland defense. Lebanon will have no difficulty absorbing these missiles into its armed forces.

The proposed sale of this equipment and support will not alter the basic military balance in the region.

The principal contractor will be The Raytheon Company in Andover, Massachusetts. There are no known offset agreements proposed in connection with this potential sale.

Implementation of this proposed sale will not require the assignment of any additional U.S. Government or contractor representatives to Lebanon.

There will be no adverse impact on U.S. defense readiness as a result of this proposed sale.

Transmittal No. 15-40

Notice of Proposed Issuance of Letter of Offer Pursuant to Section 36(b)(1) of the Arms Export Control Act, as amended

Annex

Item No. vii

(vii) Sensitivity of Technology:

1. The TOW 2A Radio-Frequency (RF) missile (BGM-71E-4B-RF) is a direct attack missile designed to defeat targets such as armored vehicles and reinforced urban structures. The TOW 2A RF missile can be launched from the same launcher platforms as the existing wire-guided TOW 2A missile without modification to the launcher. The TOW 2A missile (both wire & RF) contains two tracker beacons (xenon and thermal) for the launcher to track and guide the missile in flight. Guidance commands from the launcher are provided to the missile by an RF link contained within the missile case. The hardware, software, and technical publications provided with the sale are Unclassified.

2. The TOW Bunker Buster (BB) Radio Frequency (RF) missile (BGM-71H-1-RF) is used to defeat field fortifications, bunkers, and urban structures. The TOW BB Aero RF missile can be launched from the same launcher platforms as the existing wire-guided TOW 2A missiles without modification to the launcher. The TOW BB missile (both wired and RF) contains two tracker beacons (xenon and thermal) for the launcher to track and guide the missile in flight. Guidance commands from the launcher are provided to the missile by an RF link contained within the missile case. The hardware, software, and technical publications provided with the sale are Unclassified.

3. If a technologically advanced adversary were to obtain knowledge of the specific hardware and software elements, the information could be used to develop countermeasures which might reduce weapon system effectiveness or be used in the development of a system with similar or advanced capabilities.

4. A determination has been made that the Government of Lebanon can provide substantially the same degree of protection for the technology being released as the U.S. Government. The sale is necessary in furtherance of the U.S. foreign policy and national security objectives as outlined in the Policy Justification of the notification.

5. All defense articles and services listed in this transmittal have been authorized for release and export to Lebanon.

[FR Doc. 2015-18432 Filed 7-27-15; 8:45 am]

BILLING CODE 5001-06-P